DEPARTMENT OF COMMERCE

Foreign-Trade Zones Board

[Docket 31-2006]

Foreign-Trade Zone 208 - New London, Connecticut, Expansion of Subzone and Manufacturing Authority-Subzone 208A, Pfizer Inc (Pharmaceutical Products), Groton, Connecticut

An application has been submitted to the Foreign-Trade Zones Board (the Board) by the New London Foreign Trade Zone Commission, grantee of FTZ 208, requesting to expand the subzone and scope of manufacturing authority under zone procedures for Subzone 208A, at the Pfizer Inc (Pfizer) facility in Groton, Connecticut. It was formally filed on July 20, 2006.

Subzone 208A was approved by the Board in 2005 at Pfizer's plant (61 bldgs. on 57 acres/723,362 sq. ft., 195, 642 sq. ft. of which is devoted to manufacturing) located at 445 Eastern Point Road, Groton, Connecticut. The facility (400 employees) is used to produce and/or distribute a wide range of pharmaceuticals, with specific authority granted for the manufacture of a single product under zone procedures (Board Order 1391, 5/9/05).

Pfizer is now requesting authority to expand the subzone to include 2 additional parcels (31 bldgs. on 112 acres/3,480,165 sq. ft., approximately one-third of which is devoted to manufacturing) located at 38 Eastern Road in Groton, adjacent to the current site, for the manufacture of pharmaceutical reference standards (HTSUS 3822.00, duty-free). Reference standards not qualifying for entry under HTSUS 3822.00 could qualify to be entered under the prototype provision of HTSUS 9817.85 (duty-free). Materials sourced from abroad account for approximately 20 percent of all materials used in production. The materials sourced from abroad primarily consist of organic chemicals but, due to the unique, wide-ranging nature of the reference standards, they may also include: animal by-products; corn starch; gums, resins and other vegetable saps and extracts; animal and vegetable fats, oils and waxes; lactose and lactose syrup; miscellaneous edible preparations; ethyl alcohol; salts, magnesium carbonate and talc; mineral oils and products; inorganic chemicals and compounds of precious metals; pharmaceutical products; tannins, pigments and acid dyes; essential oils; sulfonates, surface active agents, lubricating preparations and waxes; fish glue, gelatin, peptones, dextrins and enzymes; miscellaneous chemical products; plastics; rubber and rubber articles; paper and paperboard; printed books; cotton wadding; glass products; aluminum foil; base metals; optical, medical and surgical instruments; miscellaneous manufactured articles (gelatin, wax and vegetable materials); and chemicals (chapter 99). FTZ savings will result initially from imported materials used in the manufacture of reference standards subject to duty rates from duty-free to 7.5 percent.

The application also requests authority to include a broad range of inputs (listed above) for other finished pharmaceutical products that Pfizer may produce under FTZ procedures in the future. (New major activity involving these inputs/products would require review by the FTZ Board.) The duty rates for these inputs and final products range from duty-free to 10 percent.

Zone procedures would exempt Pfizer from Customs duty payments on foreign materials used in production for export. On domestic shipments, the company would be able to defer Customs duty payments on foreign materials, and to choose the duty rate that applies to the finished products instead of the rates otherwise applicable to the foreign input materials. Pfizer also expects to realize additional savings through the use of weekly entry procedures. The application indicates that the savings from zone procedures would help improve the plant's international competitiveness.

In accordance with the Board's regulations, a member of the FTZ staff has been designated examiner to investigate the application and report to the Board.

Public comment is invited from interested parties. Submissions (original and 3 copies) shall be addressed to the Board's Executive Secretary at the address listed below. The closing period for their receipt is September 29, 2006. Rebuttal comments in response to material submitted during the forgoing period may be submitted during the subsequent 15-day period (to October 14, 2006).

A copy of the application and accompanying exhibits will be available for public inspection at each of the following locations: the City of New London's Office of Development and Planning, 111 Union Street, New London, CT 06320; and, Office of the Executive Secretary, Foreign-Trade Zones Board, Room 1115, U.S. Department of Commerce, 1401 Constitution Avenue, NW, Washington, DC 20230.

Dated: July 20, 2006.
Andrew McGilvray,
Acting Executive Secretary.

[FR Doc. E6-12228 Filed 7-28-06; 8:45 am]

BILLING CODE 3510-DS-S